SECURITIES AND EXCHANGE COMMISSION

17 CFR Parts 229, 232, 240, and 249

[Release Nos. 33-11138; 34-96492; File No. S7-20-21]

RIN 3235-AM86

Insider Trading Arrangements and Related Disclosures

Correction

In rule document 2022-27675, appearing on pages 80362-80432 in the issue of Thursday, December 29, 2022, make the following correction:

§ 229.601 [Corrected]

Beginning on page 80428, the “Exhibit Table” is correct to read as set forth below:

Exhibit Table
| Securities act forms: S-1 | Securities act forms: S-3 | Securities act forms: SF-1 | Securities act forms: SF-3 | Securities act forms: S-4 ¹ | Securities act forms: S-8 | Securities act forms: S-11 | Securities act forms: F-1 | Securities act forms: F-3 | Securities act forms: F-4 ¹ | Exchange act forms: 10 | Exchange act forms: 8-K ² | Exchange act forms: 10-D | Exchange act forms: 10-Q | Exchange act forms: 10-K | Exchange act forms: ABS-EE
* * * * * * *
(19) Insider trading policies and procedures |  |  |  |  |  |  |  |  |  |  |  |  |  |  | X |
* * * * * * *
¹ An exhibit need not be provided about a company if: (1) With respect to such company an election has been made under Form S-4 or F-4 to provide information about such company at a level prescribed by Form S-3 or F-3; and (2) the form, the level of which has been elected under Form S-4 or F-4, would not require such company to provide such exhibit if it were registering a primary offering.
² A Form 8-K exhibit is required only if relevant to the subject matter reported on the Form 8-K report. For example, if the Form 8-K pertains to the departure of a director, only the exhibit described in paragraph (b)(17) of this section need be filed. A required exhibit may be incorporated by reference from a previous filing.

[FR Doc. C1-2022-27675 Filed 4-6-23; 8:45 am]

BILLING CODE 0099-10-P